NATIONAL CREDIT UNION ADMINISTRATION

12 CFR Part 701

RIN 3133-AD65

Chartering and Field of Membership for Federal Credit Unions

AGENCY: National Credit Union Administration (NCUA).

ACTION: Notice of extension of comment period.

SUMMARY: On December 17, 2009, the NCUA Board issued a proposed rule amending its chartering and field of membership manual to update its community chartering policies and define the terms “rural district” and “in danger of insolvency” for emergency merger purposes. 74 FR 68722 (December 29, 2009). NCUA has received several requests to extend the comment period set in the proposed rule and has determined to extend the comment period for an additional 45 days.

DATES: Comments must be postmarked or received by April 15, 2010.

ADDRESSES: You may submit comments by any of the following methods (Please send comments by one method only):

• Federal eRulemaking Portal: http://www.regulations.gov. Follow the instructions for submitting comments.

• NCUA Web Site: http://www.ncua.gov/RegulationsOpinionsLaws/proposedregs/proposedregs.html. Follow the instructions for submitting comments.

• E-mail: Address to regcomments@ncua.gov. Include “[Your name] Comments on Proposed Rule IRPS 09-1,” in the e-mail subject line.

• Fax: (703) 518-6319. Use the subject line described above for e-mail.

• Mail: Address to Mary F. Rupp, Secretary of the Board, National Credit Union Administration, 1775 Duke Street, Alexandria, Virginia 22314-3428.

• Hand Delivery/Courier: Same as mail address.

Public Inspection: All public comments are available on the agency's website at http://www.ncua.gov/RegulationsOpinionsLaws/comments as submitted, except as may not be possible for technical reasons. Public comments will not be edited to remove any identifying or contact information. Paper copies of comments may be inspected in NCUA's law library at 1775 Duke Street, Alexandria, Virginia 22314, by appointment weekdays between 9 a.m. and 3 p.m. To make an appointment, call (703) 518-6546 or send an e-mail to OGCMail@ncua.gov.

FOR FURTHER INFORMATION CONTACT: Frank Kressman, Staff Attorney, Office of General Counsel, 1775 Duke Street, Alexandria, Virginia 22314 or telephone (703) 518-6540.

SUPPLEMENTARY INFORMATION: On December 17, 2009, the NCUA Board issued a proposed rule to amend its chartering and field of membership manual to update its community chartering policies. The amendments include using objective and quantifiable criteria to determine the existence of a local community and defining the term “rural district.” The amendments clarify NCUA's marketing plan requirements for credit unions converting to or expanding their community charters and define the term “in danger of insolvency” for emergency merger purposes. 74 FR 68722 (December 29, 2009).

NCUA requested comments on its proposal and set a 60-day comment period. NCUA has received several requests to extend the comment period. The NCUA Board believes a 45-day extension will help facilitate the submission of comments without causing undue delay to the rulemaking process. Accordingly, the comment period is extended and comments must now be postmarked or received by April 15, 2010.

By the National Credit Union Administration Board on February 1, 2010.
Mary Rupp,
Secretary of the Board.

[FR Doc. 2010-2605 Filed 2-5-10; 8:45 am]

BILLING CODE 7535-01-P